DEPARTMENT OF COMMERCE

Foreign-Trade Zones Board

[Docket 60-2009]

Proposed Foreign-Trade Zone - Western Maricopa County, Arizona

Application and Public Hearing

An application has been submitted to the Foreign-Trade Zones Board (the Board) by the Greater Maricopa FTZ, Inc., to establish a general-purpose foreign-trade zone at four sites in Western Maricopa County, within the Phoenix CBP port of entry. The application was submitted pursuant to the provisions of the Foreign-Trade Zones Act, as amended (19 U.S.C. 81a-81u), and the regulations of the Board (15 CFR part 400). It was formally filed on December 18, 2009. The applicant is authorized to make the proposal under Arizona Statute 44-6501.

The proposed zone would be the third general-purpose zone in the Phoenix CBP port of entry. The existing zones are as follows: FTZ 75, Phoenix, Arizona (Grantee: City of Phoenix, Board Order 185, 3/25/82); and, FTZ 221, Mesa, Arizona (Grantee: City of Mesa, Board Order 883, 4/25/97).

The proposed zone would consist of 4 sites covering 918 acres in Western Maricopa County, Arizona: Proposed Site 1 (230 acres) - within the 416-acre Airport Gateway at Goodyear industrial complex, adjacent to the Phoenix Goodyear Airport located at the intersection of Bullard Avenue and Van Buren Street, Goodyear; Proposed Site 2 (133 acres) - within the 286-acre Surprise Pointe Business Park, located at the southeast corner of Waddell Road and Litchfield Road, Surprise; Proposed Site 3 (235 acres) - within the 1,600-acre Palm Valley 303 Industrial Park, located south of Camelback Road at State Road 303, Goodyear; and, Proposed Site 4 (320 acres) - within the 1,314-acre 10 West Logistics Center, located between Van Buren Street and Interstate 10 at 339th Avenue in Maricopa County west of Buckeye. The sites are owned by EJM Development Co., Surprise Holdings, LLC, SunCor Development Company, and 339th & I-10, LLC, respectively.

The application indicates a need for zone services in the Western Maricopa County, Arizona area. One firm has indicated an interest in using zone procedures for warehousing/distribution activities. Specific manufacturing approvals are not being sought at this time. Requests would be made to the Board on a case-by-case basis.

In accordance with the Board's regulations, Christopher Kemp of the FTZ Staff is designated examiner to evaluate and analyze the facts and information presented in the application and case record and to report findings and recommendations to the Board.

As part of the investigation, the Commerce examiner will hold a public hearing on February 3, 2010, at 1:00p.m., at the Goodyear Justice Center, 185 N. 145th Avenue, Goodyear, Arizona.

Public comment is invited from interested parties. Submissions (original and 3 copies) shall be addressed to the Board's Executive Secretary at the address below. The closing period for their receipt is March 1, 2010. Rebuttal comments in response to material submitted during the foregoing period may be submitted during the subsequent 15-day period to March 15, 2010.

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz.

For further information, contact Christopher Kemp at Christopher.Kemp@trade.gov or (202) 482-0862.

Dated: December 18, 2009.
Andrew McGilvray,
Executive Secretary.

{FR Doc. E9-30844 Filed 12-28-09; 8:45 am}

BILLING CODE 3510-DS-S